DEPARTMENT OF HEALTH AND HUMAN SERVICES

Office of the Secretary

PHS Policy for Instruction in the Responsible Conduct of Research; Availability of New Draft

AGENCY: Office of the Secretary, HHS.

ACTION: Notice of availability.

SUMMARY: The Office of Research Integrity (ORI) in collaboration with the Agency Research Integrity Liaison Officers for each of the PHS Operating Divisions, is announcing the availability for public comment of a new draft PHS Policy for Instruction in the Responsible Conduct of Research for extramural institutions receiving PHS funds for research or research training.

On October 22, 1999, HHS Secretary Donna E. Shalala announced a number of important changes in policy to improve the Department's research integrity efforts including a statement that “through ORI, the Department will require research institutions to provide training in the responsible conduct of research to all staff engaged in research or research training with PHS funds.” This decision was based on the Department's commitment to ensure that all PHS supported researchers receive basic instruction in the key elements of responsible research and are familiar with basic regulatory requirements. The decision was also supported by prior recommendations of the Commission on Research Integrity which stated, in part, that HHS

“require that each institution applying for or receiving a grant, contract, or cooperative agreement under the Public Health Service Act for research or research training add to its existing misconduct-in-science assurance a third declaration, one certifying that the institution has an educational program on the responsible conduct of research. Through this mechanism, the current NIH research integrity education requirement, now limited to recipients of institutional training grants at NIH-funded institutions, would be augmented by an assurance applied to all individuals supported by PHS research funds.” Commission Report, “Integrity and Misconduct in Research,” p. 18 (HHS 1995).

Institutions and individuals interested in commenting on the proposed policy may obtain it on the ORI website at <http://ori.dhhs.gov> by clicking on “What's New” or by contacting ORI. To be considered, all comments must be received by ORI at the address below or by E-mail to jegan@osophs.dhhs.gov no later than August 21, 2000.

FOR FURTHER INFORMATION CONTACT: Chris B. Pascal, J.D., Acting Director, Office of Research Integrity, Rockwall II, Suite 700, 5515 Security Lane, Rockville, MD 20852, 301-443-3400.

Chris B. Pascal,
Acting Director, Office of Research Integrity.

[FR Doc. 00-18495 Filed 7-20-00; 8:45 am]

BILLING CODE 4160-17-P